DEPARTMENT OF TRANSPORTATION

Federal Railroad Administration

[Docket No. FRA 2009-0001-N-20]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking re-approval of the following information collection activities. Before submitting these information collection requirements for clearance by the Office of Management and Budget (OMB), FRA is soliciting public comment on specific aspects of the activities identified below.

DATES: Comments must be received no later than October 23, 2009.

ADDRESSES: Submit written comments on any or all of the following proposed activities by mail to either: Mr. Robert Brogan, Office of Safety, Planning and Evaluation Division, RRS-21, Federal Railroad Administration, 1200 New Jersey Ave., SE., Mail Stop 17, Washington, DC 20590, or Ms. Nakia Jackson, Office of Information Technology, RAD-20, Federal Railroad Administration, 1200 New Jersey Ave., SE., Mail Stop 35, Washington, DC 20590. Commenters requesting FRA to acknowledge receipt of their respective comments must include a self-addressed stamped postcard stating, “Comments on OMB control number 2130-0583.” Alternatively, comments may be transmitted via facsimile to (202) 493-6216 or (202) 493-6497, or via e-mail to Mr. Brogan at robert.brogan@dot.gov, or to Ms. Jackson at nakia.jackson@dot.gov. Please refer to the assigned OMB control number and the title of the information collection in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 17, Washington, DC 20590 (telephone: (202) 493-6292) or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR Part 1320, require Federal agencies to provide 60-days notice to the public for comment on information collection activities before seeking approval of such activities by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the proposed information collection activities that FRA will submit for clearance by OMB as required under the PRA:

Title: ARRA Solicitation of Applications and Notice of Funds Availability for High-Speed Rail Corridors and Intercity Passenger Rail Service—Capital Assistance and Planning Grants Program.

OMB Control Number: 2130-0583.

Abstract: On June 23, 2009, FRA published a Notice of Funds Availability (NOFA) and Interim Guidance for the High-Speed Rail (HSR)/Intercity Passenger Rail (IPR) Grant Program. See 74 FR 29900. The NOFA and Interim Guidance documents and additional information about the HSR/IPR Grant Program are available on FRA's public Web site at http://www.fra.dot.gov/us/content/2243. FRA plans on publishing a Final Guidance shortly in the Federal Register, and will also then place the Final Guidance on its Web site. The HSR/IPR Grant Program builds upon President Obama's “Vision for High-Speed Rail in America,” which was issued on April 16, 2009, and which describes a collaborative effort among the Federal Government, States, railroads and other key stakeholder to transform America's transportation system by investing in an efficient, high-speed passenger rail network of 100 to 600 mile intercity corridors.

The Interim/Final Guidance documents detail HSR/IPR Grant Program funding opportunities as well as specific application requirements and procedures. The evaluation and selection criteria are intended to prioritize projects that deliver transportation, economic recovery and other public benefits, including energy independence, environmental quality, and livable communities; ensure project success through effective program management, financial planning and stakeholder commitments; and emphasize a balanced approach to project types, locations, innovation, and timing. The program grant funds are being made available under the American Recovery and Reinvestment Act of 2009 (ARRA) and the Department of Transportation Appropriations Act of fiscal years 2008 and 2009. ARRA established the HSIPR Program—a new program that provides $8 billion to support the Administration's vision for developing high-speed rail in America.

Form Number(s): FRA F 6180.132; FRA F 6180.133; FRA F 6180.134; FRA F 6180.135; FRA F 6180.138; FRA F 6180.139.

Affected Public: States/Amtrak.

Respondent Universe: 50 States and Amtrak.

Frequency of Submission: On occasion.

Reporting Burden:
RFEI notice | Respondent universe | Total annual responses (applications) | Average time per response (hours) | Total annual burden hours
—Track 1 Application Forms | States/Amtrak | 75 | 100 | 7,500
—Track 2 Application Forms | States/Amtrak | 20 | 200 | 4,000
—Track 3 Application Forms | States/Amtrak | 20 | 50 | 1,000
—Track 4 | States/Amtrak | 20 | 50 | 1,000

Total Responses: 135.

Estimated Total Annual Burden: 13,500 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on August 18, 2009.
Kimberly Orben,
Director, Office of Financial Management, Federal Railroad Administration.

[FR Doc. E9-20254 Filed 8-21-09; 8:45 am]

BILLING CODE 4910-06-P